DEPARTMENT OF COMMERCE

National Oceanic and Atmospheric Administration

[I.D. 081400A]

Taking and Importing of Marine Mammals

AGENCY: National Marine Fisheries Service (NMFS), National Oceanic and Atmospheric Administration (NOAA), Commerce.

ACTION: Notice of harvesting nation embargoes.

SUMMARY: The Assistant Administrator for Fisheries, NMFS, (Assistant Administrator) imposed embargoes on yellowfin tuna and yellowfin tuna products from Belize, Bolivia, Colombia, El Salvador, Guatemala, Honduras, Nicaragua, Panama, Vanuatu, and Venezuela under the Marine Mammal Protection Act (MMPA), 16 U.S.C. 1361 et seq., on October 3, 2000. This action prohibits the importation into the United States from these nations of yellowfin tuna and yellowfin tuna products harvested by purse seine in the eastern tropical Pacific Ocean (ETP). NMFS is imposing the embargoes because these nations harvest tuna in the ETP with purse seine vessels with greater than 400 short tons (362.8 mt) of carrying capacity and have not received “affirmative findings” as required by 50 CFR 216.24(f)(9). This determination remains in effect for each nation until an affirmative finding has been granted to a nation by the Assistant Administrator.

DATES: Effective October 3, 2000.

ADDRESSES: Copies of this notice may be obtained by writing to Nicole R. Le Boeuf, Office of Protected Resources, NMFS, 1315 East-West Highway, Silver Spring, Maryland 90210.

FOR FURTHER INFORMATION CONTACT: Nicole R. Le Boeuf; phone 301-713-2322; fax 301-713-4060.

SUPPLEMENTARY INFORMATION: Prior to March 3, 1999, section 101(a)(2)(B) of the MMPA required nations wishing to import into the United States yellowfin tuna or yellowfin tuna products harvested by purse seine in the ETP to submit documentation indicating that they were enforcing dolphin protection measures comparable to those of the United States. Under section 101(a)(2)(B) of the MMPA effective prior to March 3, 1999, Belize, Colombia, Panama, Vanuatu, and Venezuela were embargoed. The existing embargoes against yellowfin tuna harvested by purse seine in the ETP and exported from those five nations remain in effect.

Since March 3, 1999, the standards of the MMPA, as amended by the International Dolphin Conservation Program Act (IDCPA) (Pub. L. 105-42), changed for the entry into the United States of yellowfin tuna and yellowfin tuna products harvested by purse seine vessels in the ETP, as set forth by the interim final rule implementing the IDCPA (65 FR 30, January 3, 2000).

In order to export to the United States yellowfin tuna harvested by purse seine in the ETP, nations that have, operating under their jurisdiction, purse seine vessels with over 400 short tons of carrying capacity that fish for tuna in the ETP (i.e., a harvesting nation) are now obligated to submit documentary evidence directly to Assistant Administrator, and to request an affirmative finding as required by 50 CFR 216.24(f)(9). Based upon documentary evidence submitted by a harvesting nation and obtained from the Inter-American Tropical Tuna Commission (IATTC) and/or from the Department of State, the Assistant Administrator will determine whether the nation qualifies for an affirmative finding under section 101(a)(2)(B) of the MMPA. An affirmative finding allows for the importation into the United States of yellowfin tuna and yellowfin tuna products harvested by purse seine in the ETP after March 3, 1999. If a harvesting nation does not provide documentary evidence that shows that the nation meets the standards under section 101(a)(2)(B) of the MMPA, the Assistant Administrator must embargo yellowfin tuna harvested by purse seine in the ETP. Bolivia, El Salvador, Guatemala, Honduras, and Nicaragua are not currently embargoed, however, those nations have failed to submit documentation to NMFS, as required by 50 CFR 216.24(f)(9).

The application procedures to request an affirmative finding are described in the interim final regulations implementing the IDCPA (65 FR 30, January 3, 2000). Harvesting nations must submit documentary evidence directly to the Assistant Administrator demonstrating that they meet several conditions related to compliance with the International Dolphin Conservation Program (IDCP), and request an affirmative finding. To issue an affirmative finding, NMFS must receive the following information:

1. A statement requesting an affirmative finding;

2. Evidence of membership in the Inter-American Tropical Tuna Commission (IATTC);

3. Evidence that a nation is meeting its obligations to the IATTC, including financial obligations;

4. Evidence that a nation is complying with the IDCP. For example, national laws and regulations implementing the Agreement on the IDCP and information that the nation is enforcing those laws and regulations;

5. Evidence of a tuna tracking and verification program comparable to the U.S. tracking and verification regulations at 50 CFR 216.94;

6. Evidence that the national fleet dolphin mortality limits (DMLs) were not exceeded in the previous calendar year;

7. Evidence that the national fleet per-stock per-year mortality limits, if they are allocated to countries, were not exceeded in the previous calendar year;

8. Authorization for the IATTC to release to the Assistant Administrator complete, accurate, and timely information necessary to verify and inspect Tuna Tracking Forms; and

9. Authorization for the IATTC to release to the Assistant Administrator information whether a nation is meeting its obligations of membership to the IATTC and whether a nation is meeting its obligations under the IDCP, including managing (not exceeding) its national fleet DMLs or its national fleet per-stock per-year mortality limits. A nation may opt to provide this information directly to NMFS on an annual basis or to authorize the IATTC to release the information to NMFS in years when NMFS will review and consider whether to issue an affirmative finding determination without an application from the harvesting nation.

An affirmative finding will be terminated, in consultation with the Secretary of State, if the Assistant Administrator determines that the requirements of 50 CFR 216.24(f)(9) are no longer being met or that a nation is consistently failing to take enforcement actions on violations which diminish the effectiveness of the IDCP. Every 5 years, the government of a harvesting nation, must request an affirmative finding and submit the required documentary evidence directly to the Assistant Administrator.

Until such time as the Assistant Administrator receives documentary evidence from the Governments of Belize, Bolivia, Colombia, El Salvador, Guatemala, Honduras, Nicaragua, Panama, Vanuatu, and Venezuela demonstrating that they qualify for affirmative findings, embargoes on yellowfin tuna harvested by purse seine in the ETP by these nations will continue. These embargoes prohibit the importation into the United States from these nations of yellowfin tuna and yellowfin tuna products harvested by purse seine in the ETP after March 3, 1999.

Dated: October 3, 2000.
William T. Hogarth,
Deputy Assistant Administrator for Fisheries, National Marine Fisheries Service.

[FR Doc. 00-25978 Filed 10-6-00; 8:45 am]

BILLING CODE 3510-22-S